ELECTION ASSISTANCE COMMISSION

Agency Information Collection Activities: National Mail Voter Registration Form

AGENCY: U.S. Election Assistance Commission.

ACTION: Notice of emergency reinstatement.

SUMMARY: As part of its continuing effort to reduce paperwork burdens, and as required by the Paperwork Reduction Act of 1995 (PRA), the U.S. Election Assistance Commission (EAC) gives notice that it is requesting from the Office of Management and Budget (OMB) an emergency reinstatement of the National Mail Voter Registration form. Section 9(a) of the NVRA and Section 802 of HAVA requires the responsible agency to maintain a national mail voter registration form for U.S. citizens that want to register to vote, to update registration information due to a change of name, make a change of address or to register with a political party by returning the form to their state election office.

DATES: Comments must be received no later than 5 p.m. Eastern Standard Time on August 31, 2021.

ADDRESSES: You may submit written statements with respect to the reinstatement of the National Mail Voter Registration form no later than 5 p.m. on August 31, 2021. Statements may be sent via email to research@eac.gov and via standard mail addressed to the U.S. Election Assistance Commission, 633 3rd Street NW, Suite 200, Washington, DC 20001.

FOR FURTHER INFORMATION CONTACT: Nichelle Williams, Telephone: (202) 924-1312.

SUPPLEMENTARY INFORMATION:

I. National Mail Voter Registration Form

Persons wishing to register to vote may use the National Mail Voter Registration form (“Federal form” or “form”) to apply for voter registration. After completing the form, an applicant submits her/his form to their respective state election office for processing. States covered by the NVRA process the information from the form to register an applicant to vote. Neither EAC nor any other Federal agency processes or collects any information from the Federal form that a registration applicant submits to a state. Rather, EAC prescribes the Federal form, and states collect and record the information applicants submit. The Federal form is composed of the registration application, instructions for completing the application (General Instructions and Application Instructions), and State-specific instructions that identify each state's particular requirements. A copy of the current form in English and 14 additional translated languages is available on EAC's website, at https://www.eac.gov/voters/national-mail-voter-registration-form.

Nichelle Williams,
Director of Research, U.S. Election Assistance Commission.

[FR Doc. 2021-17733 Filed 8-17-21; 8:45 am]

BILLING CODE 6820-KF-P